DEPARTMENT OF THE TREASURY

Office of Foreign Assets Control

31 CFR Parts 501, 510, 525, 526, 535, 536, 539, 542, 544, 546, 547, 548, 549, 551, 552, 553, 555, 558, 560, 561, 566, 570, 576, 578, 583, 584, 588, 589, 590, 592, 594, 597, and 598

Inflation Adjustment of Civil Monetary Penalties

AGENCY: Office of Foreign Assets Control, Treasury.

ACTION: Final rule.

SUMMARY: The Department of the Treasury's Office of Foreign Assets Control (OFAC) is issuing this final rule to adjust certain civil monetary penalties for inflation pursuant to the Federal Civil Penalties Inflation Adjustment Act of 1990, as amended by the Federal Civil Penalties Inflation Adjustment Act Improvements Act of 2015.

DATES: This rule is effective January 15, 2025.

FOR FURTHER INFORMATION CONTACT: OFAC: Assistant Director for Licensing, 202-622-2480; Assistant Director for Regulatory Affairs, 202-622-4855; Assistant Director for Compliance, 202-622-2490.

SUPPLEMENTARY INFORMATION:

Electronic Availability

This document and additional information concerning OFAC are available from OFAC's website (https://ofac.treasury.gov/).

Background

Section 4 of the Federal Civil Penalties Inflation Adjustment Act of 1990 (Pub. L. 101-410, 104 Stat. 890; 28 U.S.C. 2461 note), as amended by the Federal Civil Penalties Inflation Adjustment Act Improvements Act of 2015 (Pub. L. 114-74, 129 Stat. 599, 28 U.S.C. 2461 note) (the FCPIA Act), requires each federal agency with statutory authority to assess civil monetary penalties (CMPs) to adjust CMPs annually for inflation according to a formula described in section 5 of the FCPIA Act. One purpose of the FCPIA Act is to ensure that CMPs continue to maintain their deterrent effect through periodic cost-of-living-based adjustments.

OFAC has adjusted its CMPs ten times since the Federal Civil Penalties Inflation Adjustment Act Improvements Act of 2015 went into effect on November 2, 2015: an initial catch-up adjustment on August 1, 2016 (81 FR 43070, July 1, 2016); an additional initial catch-up adjustment related to CMPs for failure to comply with a requirement to furnish information, the late filing of a required report, and failure to maintain records (“recordkeeping CMPs”) that were inadvertently omitted from the August 1, 2016 initial catch-up adjustment on October 5, 2020 (85 FR 54911, September 3, 2020); and annual adjustments on February 10, 2017 (82 FR 10434, February 10, 2017); March 19, 2018 (83 FR 11876, March 19, 2018); June 14, 2019 (84 FR 27714, June 14, 2019); April 9, 2020 (85 FR 19884, April 9, 2020); March 17, 2021 (86 FR 14534, March 17, 2021); February 9, 2022 (87 FR 7369, February 9, 2022); January 13, 2023 (88 FR 2229, January 13, 2023); and January 12, 2024 (89 FR 2139, January 12, 2024).

Method of Calculation

The method of calculating CMP adjustments applied in this final rule is required by the FCPIA Act. Under the FCPIA Act and the Office of Management and Budget guidance required by the FCPIA Act, annual inflation adjustments subsequent to the initial catch-up adjustment are to be based on the percent change between the Consumer Price Index for all Urban Consumers (“CPI-U”) for the October preceding the date of the adjustment and the prior year's October CPI-U. As set forth in Office of Management and Budget Memorandum M-25-02 of December 17, 2024, the adjustment multiplier for 2024 is 1.02598. In order to complete the 2025 annual adjustment, each current CMP is multiplied by the 2025 adjustment multiplier. Under the FCPIA Act, any increase in CMP must be rounded to the nearest multiple of $1.

New Penalty Amounts

OFAC imposes CMPs pursuant to the penalty authority in five statutes: the Trading With the Enemy Act (50 U.S.C. 4301-4341, at 4315) (TWEA); the International Emergency Economic Powers Act (50 U.S.C. 1701-1706, at 1705) (IEEPA); the Antiterrorism and Effective Death Penalty Act of 1996 (18 U.S.C. 2339B) (AEDPA); the Foreign Narcotics Kingpin Designation Act (21 U.S.C. 1901-1908, at 1906) (FNKDA); and the Clean Diamond Trade Act (19 U.S.C. 3901-3913, at 3907) (CDTA).

The table below summarizes the existing and new maximum CMP amounts for each statute.

Table 1—Maximum CMP Amounts for Relevant Statutes
Statute | Existing maximum CMP amount | Maximum CMP amount effective January 15, 2025
TWEA | $108,489 | $111,308
IEEPA | 368,136 | 377,700
AEDPA | 97,178 | 99,703
FNKDA | 1,829,177 | 1,876,699
CDTA | 16,630 | 17,062

In addition to updating these maximum CMP amounts, OFAC is also updating two references to one-half the IEEPA maximum CMP from $184,068 to $188,850, and is adjusting the recordkeeping CMP amounts found in OFAC's Economic Sanctions Enforcement Guidelines in appendix A to 31 CFR part 501. The table below summarizes the existing and new maximum CMP amounts for OFAC's recordkeeping CMPs.

Table 2—Maximum CMP Amounts for Recordkeeping CMPs
Violation | Existing maximum CMP amount | Maximum CMP amount effective January 15, 2025
Failure to furnish information pursuant to 31 CFR 501.602 irrespective of whether any other violation is alleged | $28,412 | $29,150
Failure to furnish information pursuant to 31 CFR 501.602 where OFAC has reason to believe that the apparent violation(s) involves a transaction(s) valued at greater than $500,000, irrespective of whether any other violation is alleged | 71,031 | 72,876
Late filing of a required report, whether set forth in regulations or in a specific license, if filed within the first 30 days after the report is due | 3,550 | 3,642
Late filing of a required report, whether set forth in regulations or in a specific license, if filed more than 30 days after the report is due | 7,104 | 7,289
Late filing of a required report, whether set forth in regulations or in a specific license, if the report relates to blocked assets, an additional CMP for every 30 days that the report is overdue, up to five years | 1,422 | 1,459
Failure to maintain records in conformance with the requirements of OFAC's regulations or of a specific license | 71,162 | 73,011

Public Participation

The FCPIA Act expressly exempts this final rule from the notice and comment requirements of the Administrative Procedure Act by directing agencies to adjust CMPs for inflation “notwithstanding section 553 of title 5, United States Code” (Pub. L. 114-74, 129 Stat. 599; 28 U.S.C. 2461 note). As such, this final rule is being issued without prior public notice or opportunity for public comment, with an effective date of January 15, 2025.

Regulatory Flexibility Act

Because no notice of proposed rulemaking is required, the provisions of the Regulatory Flexibility Act (5 U.S.C. 601 et seq.) do not apply.

Executive Order 12866

This rule is not a significant regulatory action as defined in section 3.f. of Executive Order 12866 of September 30, 1993, “Regulatory Planning and Review” (58 FR 51735, October 4, 1993), as amended.

Paperwork Reduction Act

The Paperwork Reduction Act does not apply because this rule does not impose information collection requirements that would require the approval of the Office of Management and Budget under 44 U.S.C. 3501 et seq.

List of Subjects in 31 CFR Parts 501, 510, 526, 535, 536, 539, 542, 544, 546, 547, 548, 549, 551, 552, 553, 555, 558, 560, 561, 566, 570, 576, 578, 583, 584, 588, 589, 590, 592, 594, 597, and 598

Administrative practice and procedure, Banks, banking, Blocking of assets, Exports, Foreign trade, Licensing, Penalties, Sanctions.

For the reasons set forth in the preamble, OFAC amends 31 CFR chapter V as follows:

PART 501—REPORTING, PROCEDURES AND PENALTIES REGULATIONS

1. The authority citation for part 501 continues to read as follows:

Authority: 8 U.S.C. 1189; 18 U.S.C. 2332d, 2339B; 19 U.S.C. 3901-3913; 21 U.S.C. 1901-1908; 22 U.S.C. 287c, 2370(a), 6009, 6032, 7205, 8501-8551; 31 U.S.C. 321(b); 50 U.S.C. 1701-1706, 4301-4341; Pub. L. 101-410, 104 Stat. 890, as amended (28 U.S.C. 2461 note).

Subpart D—Trading With the Enemy Act (TWEA) Penalties

§ 501.701 [Amended]

2. In § 501.701, in paragraph (a)(3) introductory text, remove “$“$108,489” and add in its place “$111,308”.

3. Amend appendix A to part 501 as follows:

a. In paragraph IV.A., remove “$28,412” and add in its place “$29,150” and remove “$71,031” and add in in its place “$72,876”.

b. In paragraph IV.B., remove “$3,550” and add in its place “$3,642”, remove “$7,104” and add in its place “$7,289”, and remove “$1,422” and add in its place “$1,459”.

c. In paragraph IV.C., remove “$71,162” and add in its place “$73,011”.

d. In paragraph V.B.2.a.i., remove “$184,068” and add in its place “$188,850” and remove “$368,136” and add in its place “$377,700”.

e. In paragraph V.B.2.a.ii., remove “$368,136” in all three locations where it appears and add in its place in all three locations “$377,700”.

f. In paragraph V.B.2.a.v., remove “$368,136” and add in its place “$377,700”, remove “$108,489” and add in its place “$111,308”, remove “$1,829,177” and add in its place “$1,876,699”, remove “$97,178” and add in its place “$99,703”, and remove “$16,630” and add in its place “$17,062”.

g. Revise paragraph V.B.2.a.vi.

The revision reads as follows:

Appendix A to Part 501—Economic Sanctions Enforcement Guidelines.

* * * * *

V. * * *

B. * * *

2. * * *

a. * * *

vi. The following matrix represents the base amount of the proposed civil penalty for each category of violation:

* * * * *

PART 510—NORTH KOREA SANCTIONS REGULATIONS

4. The authority citation for part 510 continues to read as follows:

Authority: 3 U.S.C. 301; 31 U.S.C. 321(b); 50 U.S.C. 1601-1651, 1701-1706; 22 U.S.C. 287c, 9201-9255; Pub. L. 101-410, 104 Stat. 890, as amended (28 U.S.C. 2461 note); Pub. L. 115-44, 131 Stat. 886 (codified in scattered sections of 22 U.S.C.); E.O. 13466, 73 FR 36787, 3 CFR, 2008 Comp., p. 195; E.O. 13551, 75 FR 53837, 3 CFR, 2010 Comp., p. 242; E.O. 13570, 76 FR 22291, 3 CFR, 2011 Comp., p. 233; E.O. 13687, 80 FR 819, 3 CFR, 2015 Comp., p. 259; E.O. 13722, 81 FR 14943, 3 CFR, 2016 Comp., p. 446; E.O. 13810, 82 FR 44705, 3 CFR, 2017 Comp., p. 379.

Subpart G—Penalties and Finding of Violation

§ 510.701 [Amended]

5. In § 510.701, in paragraph (a)(2), remove “$368,136” and add in its place “$377,700”.

PART 525—BURMA SANCTIONS REGULATIONS

6. The authority citation for part 525 continues to read as follows:

Authority: 3 U.S.C. 301; 31 U.S.C. 321(b); 50 U.S.C. 1601-1651, 1701-1706; Pub. L. 101-410, 104 Stat. 890, as amended (28 U.S.C. 2461 note); E.O. 14014, 86 FR 9429, 3 CFR, 2021 Comp., p. 514.

Subpart G—Penalties

§ 525.701 [Amended]

7. In § 525.701, in paragraph (a)(2), remove “$368,136” and add in its place “$377,700”.

PART 526—HOSTAGES AND WRONGFUL DETENTION SANCTIONS REGULATIONS

8. The authority citation for part 526 continues to read as follows:

Authority: 3 U.S.C. 301; 22 U.S.C. 1741 et seq.; 31 U.S.C. 321(b); 50 U.S.C. 1601-1651, 1701-1706; Pub. L. 101-410, 104 Stat. 890, as amended (28 U.S.C. 2461 note); E.O. 14078, 87 FR 43389, 3 CFR, 2022 Comp., p. 407.

Subpart G—Penalties and Findings of Violation

§ 526.701 [Amended]

9. In § 526.701, in paragraph (a)(2), remove “$356,579” and add in its place “$365,843”.

PART 535—IRANIAN ASSETS CONTROL REGULATIONS

10. The authority citation for part 535 continues to read as follows:

Authority: 3 U.S.C. 301; 18 U.S.C. 2332d; 31 U.S.C. 321(b); 50 U.S.C. 1601-1651, 1701-1706; Pub. L. 101-410, 104 Stat. 890, as amended (28 U.S.C. 2461 note); E.O. 12170, 44 FR 65729, 3 CFR, 1979 Comp., p. 457; E.O. 12205, 45 FR 24099, 3 CFR, 1980 Comp., p. 248; E.O. 12211, 45 FR 26685, 3 CFR, 1980 Comp., p. 253; E.O. 12276, 46 FR 7913, 3 CFR, 1981 Comp., p. 104; E.O. 12279, 46 FR 7919, 3 CFR, 1981 Comp., p. 109; E.O. 12280, 46 FR 7921, 3 CFR, 1981 Comp., p. 110; E.O. 12281, 46 FR 7923, 3 CFR, 1981 Comp., p. 112; E.O. 12282, 46 FR 7925, 3 CFR, 1981 Comp., p. 113; E.O. 12283, 46 FR 7927, 3 CFR, 1981 Comp., p. 114; E.O. 12294, 46 FR 14111, 3 CFR, 1981 Comp., p. 139.

Subpart G—Penalties

§ 535.701 [Amended]

11. In § 535.701, in paragraph (a)(2), remove “$368,136” and add in its place “$377,700”.

PART 536—NARCOTICS TRAFFICKING SANCTIONS REGULATIONS

12. The authority citation for part 536 continues to read as follows:

Authority: 3 U.S.C. 301; 31 U.S.C. 321(b); 50 U.S.C. 1601-1651, 1701-1706; Pub. L. 101-410, 104 Stat. 890, as amended (28 U.S.C. 2461 note); E.O. 12978, 60 FR 54579, 3 CFR, 1995 Comp., p. 415; E.O. 13286, 68 FR 10619, 3 CFR, 2003 Comp., p. 166.

Subpart G—Penalties

§ 536.701 [Amended]

13. In § 536.701, in paragraph (a)(2), remove “$368,136” and add in its place “$377,700”.

PART 539—WEAPONS OF MASS DESTRUCTION TRADE CONTROL REGULATIONS

14. The authority citation for part 539 continues to read as follows:

Authority: 3 U.S.C. 301; 22 U.S.C. 2751-2799aa-2; 31 U.S.C. 321(b); 50 U.S.C. 1601-1651, 1701-1706; Pub. L. 101-410, 104 Stat. 890, as amended (28 U.S.C. 2461 note); E.O. 12938, 59 FR 59099, 3 CFR, 1994 Comp., p. 950; E.O. 13094, 63 FR 40803, 3 CFR, 1998 Comp., p. 200; E.O. 13382, 70 FR 38567, 3 CFR, 2005 Comp., p. 170.

Subpart G—Penalties

§ 539.701 [Amended]

15. In § 539.701, in paragraph (a)(2), remove “$368,136” and add in its place “$377,700”.

PART 542—SYRIAN SANCTIONS REGULATIONS

16. The authority citation for part 542 continues to read as follows:

Authority: 3 U.S.C. 301; 31 U.S.C. 321(b); 18 U.S.C. 2332d; 22 U.S.C. 287c; 22 U.S.C. 8791-8793; 22 U.S.C. 9528; 50 U.S.C. 1601-1651, 1701-1706; Pub. L. 108-175 (22 U.S.C. 2151 note); Pub. L. 116-92, Div. F, Title LXXIV, 133 Stat. 2291 (22 U.S.C. 8791 note); Pub. L. 101-410, 104 Stat. 890, as amended (28 U.S.C. 2461 note); E.O. 13338, 69 FR 26751, 3 CFR, 2004 Comp., p. 168; E.O. 13399, 71 FR 25059, 3 CFR, 2006 Comp., p. 218; E.O. 13460, 73 FR 8991, 3 CFR 2008 Comp., p. 181; E.O. 13572, 76 FR 24787, 3 CFR 2011 Comp., p. 236; E.O. 13573, 76 FR 29143, 3 CFR 2011 Comp., p. 241; E.O. 13582, 76 FR 52209, 3 CFR 2011 Comp., p. 264; E.O. 13606, 77 FR 24571, 3 CFR 2012 Comp., p. 243; E.O.13608, 77 FR 26409, 3 CFR, 2012 Comp., p. 252.

Subpart G—Penalties

§ 542.701 [Amended]

17. In § 542.701, in paragraph (a)(2), remove “$368,136” and add in its place “$377,700”.

PART 544—WEAPONS OF MASS DESTRUCTION PROLIFERATORS SANCTIONS REGULATIONS

18. The authority citation for part 544 continues to read as follows:

Authority: 3 U.S.C. 301; 31 U.S.C. 321(b); 50 U.S.C. 1601-1651, 1701-1706; Pub. L. 101-410, 104 Stat. 890, as amended (28 U.S.C. 2461 note); E.O. 12938, 59 FR 59099, 3 CFR, 1994 Comp., p. 950; E.O. 13094, 63 FR 40803, 3 CFR, 1998 Comp., p. 200; E.O. 13382, 70 FR 38567, 3 CFR, 2005 Comp., p. 170.

Subpart G—Penalties

§ 544.701 [Amended]

19. In § 544.701, in paragraph (a)(2), remove “$368,136” and add in its place “$377,700”

PART 546—SUDAN STABILIZATION SANCTIONS REGULATIONS

20. The authority citation for part 546 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13067, 62 FR 59989, 3 CFR, 1997 Comp., p. 230; E.O. 13400, 71 FR 25483, 3 CFR, 2006 Comp., p. 220; E.O. 14098, 88 FR 29529.

Subpart G—Penalties

§ 546.701 [Amended]

21. In § 546.701, in paragraph (a)(2), remove “$368,136” and add in its place “$377,700”.

PART 547—DEMOCRATIC REPUBLIC OF THE CONGO SANCTIONS REGULATIONS

22. The authority citation for part 547 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13413, 71 FR 64105, 3 CFR, 2006 Comp., p. 247; E.O. 13671, 79 FR 39949, 3 CFR, 2015 Comp., p. 280.

Subpart G—Penalties and Finding of Violation

§ 547.701 [Amended]

23. In § 547.701, in paragraph (a)(2), remove “$368,136” and add in its place “$377,700”.

PART 548—BELARUS SANCTIONS REGULATIONS

24. The authority citation for part 548 continues to read as follows:

Authority: 3 U.S.C. 301; 31 U.S.C. 321(b); 50 U.S.C. 1601-1651, 1701-1706; Pub. L. 101-410, 104 Stat. 890, as amended (28 U.S.C. 2461 note); E.O. 13405, 71 FR 35485, 3 CFR, 2006 Comp., p. 231; E.O. 14038, 86 FR 43905, 3 CFR, 2021 Comp., p. 626.

Subpart G—Penalties

§ 548.701 [Amended]

25. In § 548.701, in paragraph (a)(2), remove “$368,136” and add in its place “$377,700”.

PART 549—LEBANON SANCTIONS REGULATIONS

26. The authority citation for part 549 continues to read as follows:

Authority: 3 U.S.C. 301; 31 U.S.C. 321(b); 50 U.S.C. 1601-1651, 1701-1706; Pub. L. 101-410, 104 Stat. 890, as amended (28 U.S.C. 2461 note); E.O. 13441, 72 FR 43499, 3 CFR, 2008 Comp., p. 232.

Subpart G—Penalties

§ 549.701 [Amended]

27. In § 549.701, in paragraph (a)(2), remove “$368,136” and add in its place “$377,700”.

PART 551—SOMALIA SANCTIONS REGULATIONS

28. The authority citation for part 551 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13536, 75 FR 19869, 3 CFR, 2010 Comp., p. 203; E.O. 13620, 77 FR 43483, 3 CFR, 2012 Comp., p. 281.

Subpart G—Penalties and Findings of Violation

§ 551.701 [Amended]

29. In § 551.701, in paragraph (a)(2), remove “$368,136” and add in its place “$377,700”.

PART 552—YEMEN SANCTIONS REGULATIONS

30. The authority citation for part 552 continues to read as follows:

Authority: 3 U.S.C. 301; 31 U.S.C. 321(b); 50 U.S.C. 1601-1651, 1701-1706; Pub. L. 101-410, 104 Stat. 890, as amended (28 U.S.C. 2461 note); E.O. 13611, 77 FR 29533, 3 CFR, 2012 Comp., p. 260.

Subpart G—Penalties and Findings of Violation

§ 552.701 [Amended]

31. In § 552.701, in paragraph (a)(2), remove “$368,136” and add in its place “$377,700”.

PART 553—CENTRAL AFRICAN REPUBLIC SANCTIONS REGULATIONS

32. The authority citation for part 553 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13667, 79 FR 28387, 3 CFR, 2014 Comp., p. 243.

Subpart G—Penalties and Findings of Violation

§ 553.701 [Amended]

33. In § 553.701, in paragraph (a)(2), remove “$368,136” and add in its place “$377,700”.

PART 555—MALI SANCTIONS REGULATIONS

34. The authority citation for part 555 continues to read as follows:

Authority: 3 U.S.C. 301; 22 U.S.C. 287c; 31 U.S.C. 321(b); 50 U.S.C. 1601-1651, 1701-1706; Pub. L. 101-410, 104 Stat. 890, as amended (28 U.S.C. 2461 note); E.O. 13882, 84 FR 37055, 3 CFR, 2019 Comp., p. 346.

Subpart G—Penalties and Findings of Violation

§ 555.701 [Amended]

35. In § 555.701, in paragraph (a)(2), remove “$368,136” and add in its place “$377,700”.

PART 558—SOUTH SUDAN SANCTIONS REGULATIONS

36. The authority citation for part 558 continues to read as follows:

Authority: 3 U.S.C. 301; 31 U.S.C. 321(b); 50 U.S.C. 1601-1651, 1701-1706; Pub. L. 101-410, 104 Stat. 890, as amended (28 U.S.C. 2461 note); E.O. 13664, 79 FR 19283, 3 CFR, 2014 Comp., p. 238.

Subpart G—Penalties and Findings of Violation

§ 558.701 [Amended]

37. In § 558.701, in paragraph (a)(2), remove “$368,136” and add in its place “$377,700”.

PART 560—IRANIAN TRANSACTIONS AND SANCTIONS REGULATIONS

38. The authority citation for part 560 continues to read as follows:

Authority: 3 U.S.C. 301; 18 U.S.C. 2339B, 2332d; 22 U.S.C. 2349aa-9, 7201-7211, 8501-8551, 8701-8795; 31 U.S.C. 321(b); 50 U.S.C. 1601-1651, 1701-1706; Pub. L. 101-410, 104 Stat. 890, as amended (28 U.S.C. 2461 note); E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217; E.O. 13599, 77 FR 6659, 3 CFR, 2012 Comp., p. 215; E.O. 13846, 83 FR 38939, 3 CFR, 2018 Comp., p. 854.

Subpart G—Penalties

§ 560.701 [Amended]

39. In § 560.701, in paragraph (a)(2), remove “$368,136” and add in its place “$377,700”.

PART 561—IRANIAN FINANCIAL SANCTIONS REGULATIONS

40. The authority citation for part 561 continues to read as follows:

Authority: 3 U.S.C. 301; 31 U.S.C. 321(b); 50 U.S.C. 1601-1651, 1701-1706; 22 U.S.C. 8501-8551, 8701-8795; Pub. L. 101-410, 104 Stat. 890, as amended (28 U.S.C. 2461 note); E.O. 12957, 60 FR 14615, 3 CFR, 1995 Comp., p. 332; E.O. 13553, 75 FR 60567, 3 CFR, 2010 Comp., p. 253; E.O. 13599, 77 FR 6659, 3 CFR, 2012 Comp., p. 215; E.O. 13846, 83 FR 38939, 3 CFR, 2018 Comp., p. 854; E.O. 13871, 84 FR 20761, 3 CFR, 2019 Comp., p. 309.

Subpart G—Penalties

§ 561.701 [Amended]

41. In § 561.701, in paragraph (a)(4), remove “$368,136” and add in its place “$377,700”.

PART 566—HIZBALLAH FINANCIAL SANCTIONS REGULATIONS

42. The authority citation for part 566 continues to read as follows:

Authority: 3 U.S.C. 301; 31 U.S.C. 321(b); 50 U.S.C. 1601-1651, 1701-1706; Pub. L. 101-410, 104 Stat. 890, as amended (28 U.S.C. 2461 note); Pub. L. 114-102, 129 Stat. 2205 (50 U.S.C. 1701 note); Pub. L. 115-272, 132 Stat. 4144 (50 U.S.C. 1701 note).

Subpart G—Penalties and Finding of Violation

§ 566.701 [Amended]

43. In § 566.701, in paragraph (b), remove “$368,136” and add in its place “$377,700”.

PART 570—LIBYAN SANCTIONS REGULATIONS

44. The authority citation for part 570 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13566, 76 FR 11315, 3 CFR, 2011 Comp., p. 222; E.O. 13726, 81 FR 23559, 3 CFR, 2016 Comp., p. 454.

Subpart G—Penalties and Findings of Violation

§ 570.701 [Amended]

45. In § 570.701, in paragraph (a)(2), remove “$368,136” and add in its place “$377,700”.

PART 576—IRAQ STABILIZATION AND INSURGENCY SANCTIONS REGULATIONS

46. The authority citation for part 576 continues to read as follows:

Authority: 3 U.S.C. 301; 22 U.S.C. 287c; 31 U.S.C. 321(b); 50 U.S.C. 1601-1651, 1701-1706; Pub. L. 101-410, 104 Stat. 890, as amended (28 U.S.C. 2461 note); E.O. 13303, 68 FR 31931, 3 CFR, 2003 Comp., p. 227; E.O. 13315, 68 FR 52315, 3 CFR, 2003 Comp., p. 252; E.O. 13350, 69 FR 46055, 3 CFR, 2004 Comp., p. 196; E.O. 13364, 69 FR 70177, 3 CFR, 2004 Comp., p. 236; E.O. 13438, 72 FR 39719, 3 CFR, 2007 Comp., p. 224; E.O. 13668, 79 FR 31019, 3 CFR, 2014 Comp., p. 248.

Subpart G—Penalties

§ 576.701 [Amended]

47. In § 576.701, in paragraph (a)(2), remove “$368,136” and add in its place “$377,700”.

PART 578—CYBER-RELATED SANCTIONS REGULATIONS

48. The authority citation for part 578 continues to read as follows:

Authority: 3 U.S.C. 301; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13694, 80 FR 18077, 3 CFR 2015 Comp., p. 297; E.O. 13757, 82 FR 1, 3 CFR 2016 Comp., p. 659.

Subpart G—Penalties and Findings of Violation

§ 578.701 [Amended]

49. In § 578.701, in paragraph (a)(2), remove “$368,136” and add in its place “$377,700”.

PART 583—GLOBAL MAGNITSKY SANCTIONS REGULATIONS

50. The authority citation for part 583 is revised to read as follows:

Authority: 3 U.S.C. 301; 22 U.S.C. 10101-10103; 31 U.S.C. 321(b); 50 U.S.C. 1601-1651, 1701-1706; Pub. L. 101-410, 104 Stat. 890, as amended (28 U.S.C. 2461 note); Pub. L. 116-145, 134 Stat. 651, as amended (22 U.S.C. 6901 note); Pub. L. 117-78, 135 Stat. 1531 (22 U.S.C. 6901 note); E.O. 13818, 82 FR 60839, 3 CFR, 2017 Comp., p. 399.

Subpart G—Penalties and Findings of Violation

§ 583.701 [Amended]

51. In § 583.701, in paragraph (a)(2), remove “$368,136” and add in its place “$377,700”.

PART 584—MAGNITSKY ACT SANCTIONS REGULATIONS

52. The authority citation for part 584 continues to read as follows:

Authority: 3 U.S.C. 301; 31 U.S.C. 321(b); 50 U.S.C. 1601-1651, 1701-1706; Pub. L. 101-410, 104 Stat. 890, as amended (28 U.S.C. 2461 note); Pub. L. 112-208, Title IV, 126 Stat. 1502 (22 U.S.C. 5811 note).

Subpart G—Penalties and Finding of Violation

§ 584.701 [Amended]

53. In § 584.701, in paragraph (a)(2), remove “$368,136” and add in its place “$377,700”.

PART 588—WESTERN BALKANS STABILIZATION REGULATIONS

54. The authority citation for part 588 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13219, 66 FR 34777, 3 CFR, 2001 Comp., p. 778; E.O. 13304, 68 FR 32315, 3 CFR, 2004 Comp., p. 229; E.O. 14033, 86 FR 43905, 3 CFR, 2022 Comp., p. 591.

Subpart G—Penalties and Findings of Violation

§ 588.701 [Amended]

55. In § 588.701, in paragraph (a)(2), remove “$368,136” and add in its place “$377,700”.

PART 589—UKRAINE-/RUSSIA-RELATED SANCTIONS REGULATIONS

56. The authority citation for part 589 continues to read as follows:

Authority: 3 U.S.C. 301; 22 U.S.C. 8901-8910, 8921-8930; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13660, 79 FR 13493, 3 CFR, 2014 Comp., p. 226; E.O. 13661, 79 FR 15535, 3 CFR, 2014 Comp., p. 229; E.O. 13662, 79 FR 16169, 3 CFR, 2014 Comp., p. 233; E.O. 13685, 79 FR 77357, 3 CFR, 2014 Comp., p. 313., E.O. 13849, 3 CFR, 2018 Comp., p. 875, E.O. 14065, 87 FR 10293, 3 CFR, 2022 Comp., p. 340.

Subpart G—Penalties and Findings of Violation

§ 589.701 [Amended]

57. In § 589.701, in paragraph (a)(2), remove “$368,136” and add in its place “$377,700”.

PART 590—TRANSNATIONAL CRIMINAL ORGANIZATIONS SANCTIONS REGULATIONS

58. The authority citation for part 590 continues to read as follows:

Authority: 3 U.S.C. 301; 31 U.S.C. 321(b); 50 U.S.C. 1601-1651, 1701-1706; Pub. L. 101-410, 104 Stat. 890, as amended (28 U.S.C. 2461 note); E.O. 13581, 76 FR 44757, 3 CFR, 2011 Comp., p. 260; E.O. 13863, 84 FR 10255, 3 CFR, 2019 Comp., p. 267.

Subpart G—Penalties and Findings of Violation

§ 590.701 [Amended]

59. In § 590.701, in paragraph (a)(2), remove “$368,136” and add in its place “$377,700”.

PART 592—ROUGH DIAMONDS CONTROL REGULATIONS

60. The authority citation for part 592 continues to read as follows:

Authority: 3 U.S.C. 301; 19 U.S.C. 3901-3913; 31 U.S.C. 321(b); Pub. L. 101-410, 104 Stat. 890, as amended (28 U.S.C. 2461 note); E.O. 13312, 68 FR 45151, 3 CFR, 2003 Comp., p. 246.

Subpart F—Penalties

§ 592.601 [Amended]

61. In § 592.601, in paragraph (a)(2), remove “$16,630” and add in its place “$17,062”.

PART 594—GLOBAL TERRORISM SANCTIONS REGULATIONS

62. The authority citation for part 594 is revised to read as follows:

Authority: 3 U.S.C. 301; 22 U.S.C. 287c; 22 U.S.C. 9404-9411; 31 U.S.C. 321(b); 50 U.S.C. 1601-1651, 1701-1706; Pub. L. 101-410, 104 Stat. 890, as amended (28 U.S.C. 2461 note); Pub. L. 114-102, 129 Stat. 2205, as amended (50 U.S.C. 1701 note); Pub. L. 115-348, 132 Stat. 5055 (50 U.S.C. 1701 note); E.O. 13224, 66 FR 49079, 3 CFR, 2001 Comp., p. 786; E.O. 13268, 67 FR 44751, 3 CFR 2002 Comp., p. 240; E.O. 13284, 68 FR 4075, 3 CFR, 2003 Comp., p. 161; E.O. 13372, 70 FR 8499, 3 CFR, 2006 Comp., p. 159; E.O. 13886, 84 FR 48041, 3 CFR, 2019 Comp., p. 356.

Subpart G—Penalties

§ 594.701 [Amended]

63. In § 594.701, in paragraph (a)(2), remove “$368,136”and add in its place “$377,700”.

PART 597—FOREIGN TERRORIST ORGANIZATIONS SANCTIONS REGULATIONS

64. The authority citation for part 597 continues to read as follows:

Authority: 8 U.S.C. 1189; 18 U.S.C. 2339B; 31 U.S.C. 321(b); Pub. L. 101-410, 104 Stat. 890, as amended (28 U.S.C. 2461 note).

Subpart G—Penalties

§ 597.701 [Amended]

65. In § 597.701, in paragraph (b)(3), remove “$97,178” and add in its place “$99,703”.

PART 598—FOREIGN NARCOTICS KINGPIN SANCTIONS REGULATIONS

66. The authority citation for part 598 continues to read as follows:

Authority: 3 U.S.C. 301; 21 U.S.C. 1901-1908; 31 U.S.C. 321(b); Pub. L. 101-410, 104 Stat. 890, as amended (28 U.S.C. 2461 note).

Subpart G—Penalties

§ 598.701 [Amended]

67. In § 598.701, in paragraph (a)(4), remove “$1,829,177” and add in its place “$1,876,699”.

Lisa M. Palluconi,
Acting Director, Office of Foreign Assets Control.

[FR Doc. 2025-00786 Filed 1-14-25; 8:45 am]

BILLING CODE 4810-AL-P